DEPARTMENT OF AGRICULTURE

Natural Resources Conservation Service

RIN 0578-AA48

Conservation Practice Technical Assistance

AGENCY: Natural Resources Conservation Service, United States Department of Agriculture.

ACTION: Notice; request for comment.

SUMMARY: Section 1242(h) of the Food Security Act of 1985, as amended by the Food, Conservation, and Energy Act of 2008 (2008 Act), requires that the Natural Resources Conservation Service (NRCS): (1) Review conservation practice standards, including engineering design specifications, in effect on June 18, 2008; (2) ensure the completeness and relevance of the standards to local agricultural, forestry, and natural resource needs including specialty crops, native and managed pollinators, bioenergy crop production, forestry, and other such needs as determined by the Secretary; and (3) ensure, to the maximum extent practicable, that the standards provide for the optimal balance between meeting site-specific conservation needs and minimizing risks of design failure and associated costs of construction and installation. NRCS conducted an internal review of the conservation practice standards and met with various stakeholder groups, as required by section 1242(h)(2), to obtain their input about how to improve the completeness and relevance of the standards. NRCS is hereby notifying the public of the results of the preliminary review and requests comments from the public about how to improve the conservation practice standards to meet the goals and objectives of Section 1242(h) of the Food Security Act of 1985, as amended.

DATES: Comment Date: Submit comments on or before August 11, 2009.

ADDRESSES: You may send comments using any of the following methods:

• Government-wide rulemaking Web site: Go to http://www.regulations.gov and follow the instructions for sending comments electronically.

• Mail: Norman Widman, National Agronomist, Department of Agriculture, Natural Resources Conservation Service, Conservation Practice Standard Comments, Post Office Box 2890, Washington, DC 20013.

• Fax: (202) 720-5334.

• E-mail: nrcscpta2008@wdc.usda.gov.

• Hand Delivery: USDA South Building, 1400 Independence Avenue, SW., Room 5234, Washington, DC 20250, between 9 a.m. and 4 p.m., Monday through Friday, except Federal Holidays. Please ask the guard at the entrance to the South Building to call (202) 720-4630 in order to be escorted into the building.

• This notice may be accessed via Internet. Users can access the NRCS homepage at http://www.nrcs.usda.gov/; select the Farm Bill link from the menu; select Notices. Persons with disabilities who require alternative means for communication (braille, large print, audio tape, etc.) should contact the USDA TARGET Center at: (202) 720-2600 (voice and TDD).

FOR FURTHER INFORMATION CONTACT: Norman Widman, National Agronomist, Department of Agriculture, Natural Resources Conservation Service, P.O. Box 2890, Washington, DC 20013-2890; or e-mail: norm.widman@wdc.usda.gov.

SUPPLEMENTARY INFORMATION: NRCS provides technical assistance to clients through the conservation planning process. The planning process involves: (1) Determining the client goals and resource concerns (conservation needs), (2) developing of treatment options, (3) recording the client's decisions, and (4) evaluating the conservation treatment. The conservation practice standards used to apply conservation contain information on why and where the practice is applied, and sets forth the minimum technical criteria that must be met during the application of that practice in order for it to achieve its intended purposes. The engineering design specifications address how the practice is to be applied or installed and are developed for site-specific conditions. Conservation practices are designed to address the treatment of resource needs and are not directed to specific types of farming or commodities.

Agricultural and environmental groups expressed concern during the development of the 2008 Act that NRCS conservation practice standards did not adequately address or have relevance to particular types of farming operations or natural resource needs. As a result of those concerns, Section 2706 of the 2008 Act amended Section 1242(h)(1) of the Food Security Act of 1985 to require the Secretary of Agriculture to review conservation practice standards, including engineering design specifications, in effect on June 18, 2008; ensure, to the maximum extent practicable, the completeness and relevance of the standards to local agricultural, forestry, and natural resource needs, including specialty crops, native and managed pollinators, bioenergy crop production, forestry, and such other needs as are determined by the Secretary; and ensure that the standards provide for the optimal balance between meeting site-specific conservation needs and minimizing risks of design failure and associated costs of construction and installation. Section 1242(h)(2) of the Food Security Act of 1985, as amended, requires the Secretary, in conducting the review of the conservation practice standards, to consult with eligible participants, crop consultants, cooperative extension and Land Grant Universities, nongovernmental organizations, and other qualified entities. Additionally, if any revisions to the conservation practice standards are determined necessary, the Secretary is required to establish an administrative process for expediting the revisions.

During July 2008 through September 2008, NRCS conducted a preliminary internal review of all conservation practice standards (at both the national and State levels) by technical discipline leaders to evaluate the practice applicability to organic farming, specialty crops, precision agriculture, pollinators, bio-energy production, and forestry. Through its internal review, NRCS made the following preliminary determinations:

1. NRCS conservation practice standards have the flexibility to address the resource needs on all types of farming operations and resource interests, including those specified in section 1242(h). NRCS will modify selected practices to better clarify their relevance to local agricultural, forestry, and natural resource needs, including specialty crops, native and managed pollinators, and bioenergy crop production.

2. Practices are designed to balance design, construction, and installation with minimal risk of failure.

3. NRCS field staff would benefit from additional training to better apply our current practices on non-traditional farming operations.

4. NRCS needs to recognize the special needs of the non-traditional farming operations when payment schedules are developed.

In addition to its internal review, NRCS met with several different groups representing organic agriculture, specialty crop production, forestry, pollinators, and precision farming to discuss our conservation practice standards and technical assistance. This meeting took place in December 2008 at the NRCS National Headquarters in Washington, DC. The results of the national and State conservation practice review were discussed with those present, and they were asked to send comments concerning the review by January 9, 2009. No comments were received.

In order to obtain the widest possible input and to ensure NRCS fully meets the intent and spirit of the Section 1242(h) conservation practice review requirements, NRCS is now seeking further comments from the public on its conservation practice standards through August 11, 2009. A list of all the USDA-NRCS National Conservation Practice Standards (166) is attached as an Appendix to this Notice. The specific content of the standards can be found at the following URL: http://www.nrcs.usda.gov/technical/standards/nhcp.html. NRCS requests public input on the relevance of any particular conservation practice to meet the needs the different types of farming operations and resource needs, or how any particular conservation practice can be modified or improved to achieve such goals. NRCS will publish in the Federal Register the final results of the conservation practice review and the modifications made in response to such review.

As required by section 1242(h)(3), NRCS has a process to expedite any revisions to the conservation practice standards necessitated by this review. This process includes the following options: (1) Revising the conservation practice at the national level by the national technical leader, (2) revising the conservation practice at the State level by the State technical leader, or (3) the State Conservationist can request a conservation practice variance from the NRCS National Headquarters.

Signed this 4th day of June, 2009, in Washington, DC.
Dave White,
Chief, Natural Resources Conservation Service.

Appendix

List of NRCS National Conservation Practice Standards; http://www.nrcs.usda.gov/technical/standards/nhcp.html.

Code | Conservation practice title
431 | Above Ground, Multi-Outlet Pipeline (ft).
472 | Access Control (ac).
560 | Access Road (ft).
309 | Agrichemical Handling Facility (no).
311 | Alley Cropping (ac).
591 | Amendments for Treatment of Agricultural Waste.
365 | Anaerobic Digester, Ambient Temperature (no).
366 | Anaerobic Digester, Controlled Temperature (no).
316 | Animal Mortality Facility (no).
575 | Animal Trails and Walkways (ft).
450 | Anionic Polyacrylamide (PAM) Erosion Control (ac).
397 | Aquaculture Ponds (ac).
370 | Atmospheric Resources Quality Management (ac),
310 | Bedding (ac).
314 | Brush Management (ac).
322 | Channel Bank Vegetation (ac).
584 | Channel Stabilization (ft).
326 | Clearing & Snagging (ft).
360 | Closure of Waste Impoundments (no).
317 | Composting Facility (no).
327 | Conservation Cover (ac).
328 | Conservation Crop Rotation (ac).
656 | Constructed Wetland (no).
332 | Contour Buffer Strips (ac).
330 | Contour Farming (ac).
331 | Contour Orchard and Other Fruit Areas (ac).
340 | Cover Crop (ac).
342 | Critical Area Planting (ac).
589A | Cross Wind Ridges (ac).
589C | Cross Wind Trap Strips (ac).
348 | Dam, Diversion (no).
402 | Dam (no & ac-ft).
324 | Deep Tillage (ac).
356 | Dike (ft).
362 | Diversion (ft).
554 | Drainage Water Management (ac).
432 | Dry Hydrant (no).
647 | Early Successional Habitat Development/Mgt. (ac).
592 | Feed Management (no & au).
382 | Fence (ft).
386 | Field Border (ft).
393 | Filter Strip (ac).
394 | Firebreak (ft).
396 | Fish Passage (mi).
398 | Fish Raceway or Tank (ft & ft³).
399 | Fishpond Management (no).
511 | Forage Harvest Management (ac).
384 | Forest Slash Treatment (ac).
666 | Forest Stand Improvement (ac).
655 | Forest Trails and Landings (ac).
383 | Fuel Break (ac).
410 | Grade Stabilization Structure (no).
412 | Grassed Waterway (ac).
548 | Grazing Land Mechanical Treatment (ac).
561 | Heavy Use Area Protection (ac).
422 | Hedgerow Planting (ft).
603 | Herbaceous Wind Barriers (ft).
423 | Hillside Ditch (ft).
320 | Irrigation Canal or Lateral (ft).
388 | Irrigation Field Ditch (ft).
464 | Irrigation Land Leveling (ac).
552 | Irrigation Regulating Reservoir (no).
436 | Irrigation Storage Reservoir (no & ac-ft).
441 | Irrigation System Microirrigation (no & ac).
442 | Irrigation System Sprinkler (no & ac).
443 | Irrigation System Surface & Subsurface (no & ac).
447 | Irrigation System, Tailwater Recovery (no).
428A | Irrigation Water Conveyance, Ditch and Channel Lining, Plain Concrete (ft).
428B | Irrigation Water Conveyance, Ditch and Channel Lining, Flexible Membrane (ft).
428C | Irrigation Water Conveyance, Ditch and Channel Lining, Galvanized Steel (ft).
430AA | Pipeline, Aluminum Tubing (ft).
430BB | Pipeline, Asbestos-Cement (ft).
430CC | Pipeline, Nonreinforced Concrete (ft).
430DD | Pipeline, High-pressure, Underground, Plastic (ft).
430EE | Pipeline, Low-pressure, Underground, Plastic (ft).
430FF | Pipeline, Steel (ft).
430GG | Pipeline, Reinforced Plastic Mortar (ft).
449 | Irrigation Water Management (ac).
460 | Land Clearing (ac).
543 | Land Reclamation, Abandoned Mined Land (ac).
544 | Land Reclamation, Currently Mined Land (ac).
453 | Land Reclamation, Landslide Treatment (no & ac).
455 | Land Reclamation, Toxic Discharge Control (no).
466 | Land Smoothing (ac).
468 | Lined Waterway or Outlet (ft).
634 | Waste Transfer (no).
457 | Mine Shaft & Adit Closing (no).
482 | Mole Drain (ft).
353 | Monitoring Well (ea).
484 | Mulching (ac).
379 | Multi-Story Cropping.
590 | Nutrient Management (ac).
500 | Obstruction Removal (ac).
582 | Open Channel (ft).
512 | Pasture & Hay Planting (ac).
595 | Pest Management (ac).
516 | Pipeline (ft).
378 | Pond (no).
521C | Pond Sealing or Lining, Bentonite Sealant (no).
521A | Pond Sealing or Lining, Flexible Membrane (no).
521B | Pond Sealing or Lining, Soil Dispersant (no).
521D | Pond Sealing or Lining, Compacted Clay Treatment (no).
462 | Precision Land Forming (ac).
338 | Prescribed Burning (ac).
409 | Prescribed Forestry (ac).
528 | Prescribed Grazing (ac).
533 | Pumping Plant (no).
550 | Range Planting (ac).
562 | Recreation Area Improvement (ac).
566 | Recreation Land Grading and Shaping (ac).
568 | Recreation Trail and Walkway (ft).
329 | Residue and Tillage Management, No Till/Strip Till/Direct Seed (ac).
345 | Residue and Tillage Management, Mulch Till (ac).
346 | Residue and Tillage Management, Ridge Till (ac).
344 | Residue Management, Seasonal (ac).
643 | Restoration and Management of Rare or Declining Habitats (ac).
391 | Riparian Forest Buffer (ac).
390 | Riparian Herbaceous Cover (ac).
555 | Rock Barrier (ft).
558 | Roof Runoff Structure (no).
557 | Row Arrangement (ac).
570 | Runoff Management System (no & ac).
610 | Salinity and Sodic Soil Management (ac).
350 | Sediment Basin (no).
646 | Shallow Water Development and Management (ac).
381 | Silvopasture Establishment (ac).
527 | Sinkhole and Sinkhole Area Treatment (no).
632 | Solid/Liquid Waste Separation Facility.
572 | Spoil Spreading (ac).
574 | Spring Development (no).
580 | Streambank and Shoreline Protection (ft).
578 | Stream Crossing (no).
395 | Stream Habitat Improvement and Management (ac).
585 | Stripcropping (ac).
587 | Structure for Water Control (no).
606 | Subsurface Drain (ft).
607 | Surface Drainage, Field Ditch (ft).
608 | Surface Drainage, Main or Lateral (ft).
609 | Surface Roughening (ac).
600 | Terrace (ft, m).
612 | Tree/Shrub Establishment (ac).
490 | Tree/Shrub Site Preparation (ac).
660 | Tree/Shrub Pruning (ac).
620 | Underground Outlet (ft).
645 | Upland Wildlife Habitat Management (ac).
635 | Vegetated Treatment Area (ac).
601 | Vegetative Barrier (ft).
630 | Vertical Drain (no).
367 | Waste Facility Cover (no).
313 | Waste Storage Facility (no).
629 | Waste Treatment.
359 | Waste Treatment Lagoon (no).
633 | Waste Utilization (ac).
636 | Water Harvesting Catchment (no).
614 | Watering Facility (no).
638 | Water and Sediment Control Basin (no).
640 | Waterspreading (ac).
642 | Water Well (no).
351 | Well Decommissioning (no).
355 | Well Water Testing (no).
658 | Wetland Creation (ac).
659 | Wetland Enhancement (ac).
657 | Wetland Restoration (ac).
644 | Wetland Wildlife Habitat Management (ac).
380 | Windbreak/Shelterbelt Establishment (ft).
650 | Windbreak/Shelterbelt Renovation (ft).

[FR Doc. E9-13870 Filed 6-11-09; 8:45 am]

BILLING CODE 3410-16-P